DEPARTMENT OF HEALTH AND HUMAN SERVICES

Health Resources and Services Administration

Funding for the Pathways for Health Professions Program, HRSA-05-118

AGENCY: Health Resources and Services Administration, HHS.

ACTION: Notice of posting of availability of funds.

SUMMARY: This notice announces the posting of a funding opportunity (Guidance HRSA-05-118) for the Pathways to Health Professions Program (PHPP) on the Health Resources and Services Administration (HRSA) Guidance and Fedgrants.gov Web sites. Funding is being made available for a competitive grant program that supports the continuation and development of innovative, culturally competent approaches that encourage underrepresented minority and disadvantaged students in colleges and universities, community colleges, elementary, middle, and high schools to pursue a career in a health or allied health field. This program consists of two distinct grants: (1) Primary Pathways—Promotes academic achievement and exposes students in grades K-12 to health and allied health professions through innovative, non-traditional methods, with an emphasis on health professions that are experiencing severe shortages across the country; and (2) Advanced Pathways—Promotes academic achievement and exposes and prepares high school and undergraduate students to pursue careers in health and allied health professions, including faculty membership and research.

Name of Grant Program: Pathways to Health Professions Program.

Program Authorization: Section 739 of the Public Health Service Act, 42 U.S.C. 293.

Amount of Funding Available: $400,000. We expect that fiscal year 2005 funding for the Primary Pathways Program will be approximately $200,000 and approximately $200,000 for the Advanced Pathways grant program. It is anticipated that four awards will be made.

Eligible Applicants: Eligible applicants are elementary, middle, and high schools, community colleges, colleges and universities, and institutions of higher education, non-profit community-based organizations, including faith-based organizations, Tribes, Tribal organizations, and health or educational professional organizations. Eligible participants include underrepresented minorities, educationally and economically disadvantaged elementary, middle, high school, community college, and undergraduate students. They must be U.S. citizens, non-citizen nationals, or those foreign nationals who possess a visa permitting permanent residence in the U.S.

Guidance Availability: Guidance availability is currently posted on the HRSA Web site at: http://www.hrsa.gov/grants/preview/guidanceprofessions/hrsa05118.htm and on Fedgrants.gov at: http://fedgrants.gov/Applicants/HHS/HRSA/GAC/HRSA-05-118/listing.html.

Application Deadline: December 17, 2004.

Dated: November 22, 2004.
Elizabeth M. Duke,
Administrator.

[FR Doc. 04-26274 Filed 11-26-04; 8:45 am]

BILLING CODE 4165-15-P